Proclamation 9937 of September 30, 2019

National Cybersecurity Awareness Month, 2019

By the President of the United States of America

A Proclamation

During National Cybersecurity Awareness Month, we recognize that protecting cyberspace is essential to our national security and economic stability. We also underscore the responsibility individuals have to secure and safeguard their personal devices, technology, and networks from cyber threats.

My Administration is taking decisive action to prevent our adversaries from compromising our information and communications infrastructure. Last year, I released the first comprehensive National Cyber Strategy in more than 15 years. By identifying and implementing the priorities related to our Nation's cybersecurity objectives, this strategy ensures the Federal Government will be better equipped to protect the American people, homeland, and way of life. Additionally, in November of 2018, I signed into law the Cybersecurity and Infrastructure Security Agency Act, establishing the Cybersecurity and Infrastructure Security Agency (CISA) within the Department of Homeland Security (DHS). Since its creation, CISA has worked with Federal, State, local, and private partners to provide incident response services and assessment capabilities for a more secure and resilient cyber infrastructure.

As technology advances, so do the tactics used by malicious cyber actors to obtain personal information and threaten our networks. To maximize our Nation's cybersecurity and mitigate risks, all levels of government must strengthen their partnerships with the private sector to better exchange information, build greater trust, and enhance the resilience of our country's cyber infrastructure. In May of 2019, I issued an Executive Order on America's Cybersecurity Workforce to provide more access to cybersecurity skills training, identify the most-skilled cybersecurity workers, and advance career opportunities in the public and private sectors. This action also established the annual President's Cup Cybersecurity Competition. The goal of this competition is to identify and encourage outstanding cybersecurity talent within the Federal workforce. My Administration is also placing a renewed focus on Science, Technology, Engineering, and Mathematics (STEM) curriculums that embrace courses such as computer science, so that the next generation will have the technical skills needed to defend our critical infrastructure and fellow citizens.

All Americans have a responsibility to defend their sensitive data stored on devices and in the cloud. DHS's “Own IT. Secure IT. Protect IT.” campaign and the National Institute of Standards and Technology's Cybersecurity Framework provide guidance for securing personal information and devices. From browsing social media sites to managing online banking accounts, practicing a few simple steps can make a substantial difference in keeping you and your online data secure. To be better protected at home, school, or work, DHS recommends individuals limit the amount of personal information they share online, regularly update devices and software, and utilize complex passwords and authentication methods.

As we continue working to fortify our country's cybersecurity infrastructure, it is imperative that all Americans use best practices in online security. During National Cybersecurity Awareness Month, I urge all citizens to spread awareness on ways they can mitigate risks, safeguard personal and professional data, and contribute to the safety and prosperity of our Nation.

NOW, THEREFORE, I, DONALD J. TRUMP, President of the United States of America, by virtue of the authority vested in me by the Constitution and the laws of the United States, do hereby proclaim October 2019 as National Cybersecurity Awareness Month. I call upon the people, companies, and institutions of the United States to recognize the importance of cybersecurity and to observe this month through events, training, and education to further our country's national security and resilience.

IN WITNESS WHEREOF, I have hereunto set my hand this thirtieth day of September, in the year of our Lord two thousand nineteen, and of the Independence of the United States of America the two hundred and forty-fourth.

[FR Doc. 2019-21761

Filed 10-2-19; 11:15 am]

Billing code 3295-F0-P